DEPARTMENT OF HEALTH AND HUMAN SERVICES

National Institutes of Health

Office of the Director, National Institutes of Health; Notice of Meeting

Pursuant to section 10(a) of the Federal Advisory Committee Act, as amended (5 U.S.C. App.), notice is hereby given of a stakeholder forum hosted by the NIH Scientific Management Review Board (SMRB). In Fall 2011, the SMRB was asked by NIH to recommend strategies for how NIH can optimize its utilization of its Small Business Innovation Research/Small Business Technology Transfer (SBIR/STTR) programs in keeping with the NIH mission. This meeting will be part of a series of sessions aimed at soliciting input from experts and stakeholders of the SBIR/STTR programs at NIH.

The NIH Reform Act of 2006 (Pub. L. 109-482) provides organizational authorities to HHS and NIH officials to: (1) Establish or abolish national research institutes; (2) reorganize the offices within the Office of the Director, NIH including adding, removing, or transferring the functions of such offices or establishing or terminating such offices; and (3) reorganize, divisions, centers, or other administrative units within an NIH national research institute or national center including adding, removing, or transferring the functions of such units, or establishing or terminating such units. The purpose of the Scientific Management Review Board (also referred to as SMRB or Board) is to advise appropriate HHS and NIH officials on the use of these organizational authorities and identify the reasons underlying the recommendations.

The meeting will be open to the public, with attendance limited to space available. Individuals who plan to attend and need special assistance, such as sign language interpretation or other reasonable accommodations, should notify the Contact Person listed below in advance of the meeting.

Name of Committee: Scientific Management Review Board

Date: October 3, 2012.

Time: 08:30 a.m. to 5 p.m.

Agenda: Presentation and discussion will focus on the deliberations of the BIR/STTR Working Group and soliciting input during this stakeholder consultation. Presentation and discussion will include, but is not limited to, representatives from the small business community and investors in biomedical research with interest in the SBIR/STTR programs. Time will be allotted on the agenda for public comment. Sign up for public comments will begin approximately at 8 a.m. on October 3, 2012 and will be restricted to one sign-in per person. In the event that time does not allow for all those interested to present oral comments, any interested person may file written comments with the committee by forwarding the statement to the Contact Person listed on this notice. The statement should include the name, address, telephone number and when applicable, the business or professional affiliation of the interested person. Members of the public viewing the meeting via webcast (see http://smrb.od.nih.gov) can submit comments during the public comment periods by submitting comments to smrb@mail.nih.gov. Only comments submitted to this address will be read. It is not unusual for the meeting to run ahead or behind schedule due to changes in the time needed for discussion. It is advisable to monitor the webcast to determine when public comments will be read. Each public comment period follows a specific discussion item. Comments related to the discussion will be read at that time. General comments unrelated to a specific agenda item will be read at the end of the meeting, time permitting. Comments submitted by email through smrb@mail.nih.gov will follow comments by individuals attending the meeting. Comments will be read in the order received and your name and affiliation will be read with the comments. Please note, time may not permit for every comment received to be read in the time allotted for public comment. Comments not read will become part of the public record.

Place: National Institutes of Health, Building 31, C-Wing, 6th Floor, Conference Room 10, 31 Center Drive, Bethesda, MD 20892.

Contact Person: Lyric Jorgenson, Ph.D., Office of Science Policy, Office of the Director, NIH, National Institutes of Health, 6705 Rockledge Drive, Suite 750, Bethesda, MD 20892, smrb@mail.nih.gov, (301) 496-6837.

The meeting will also be webcast. The draft meeting agenda and other information about the SMRB, including information about access to the webcast, will be available at http://smrb.od.nih.gov.

In the interest of security, NIH has instituted stringent procedures for entrance onto the NIH campus. All visitor vehicles, including taxis, hotel, and airport shuttles will be inspected before being allowed on campus. Visitors will be asked to show one form of identification (for example, a government-issued photo ID, driver's license, or passport) and to state the purpose of their visit.

(Catalogue of Federal Domestic Assistance Program Nos. 93.14, Intramural Research Training Award; 93.22, Clinical Research Loan Repayment Program for Individuals from Disadvantaged Backgrounds; 93.232, Loan Repayment Program for Research Generally; 93.39, Academic Research Enhancement Award; 93.936, NIH Acquired Immunodeficiency Syndrome Research Loan Repayment Program; 93.187, Undergraduate Scholarship Program for Individuals from Disadvantaged Backgrounds, National Institutes of Health, HHS)

Dated: September 5, 2012.
Melanie J. Gray,
Program Analyst, Office of Federal Advisory Committee Policy.

[FR Doc. 2012-22278 Filed 9-10-12; 8:45 am]

BILLING CODE 4140-01-P